DEPARTMENT OF ENERGY

Federal Energy Regulatory Commission

Notice of Staff Attendance

The Federal Energy Regulatory Commission (Commission) hereby gives notice that members of the Commission's staff may attend the following meeting related to the transmission planning activities of the Southwest Power Pool, Inc. (SPP).

SPP Planning Summit December 2014

The above-referenced meeting will be held December 16, 2014 at:

SPP Corporate Offices, Auditorium B, 201 Worthen Drive, Little Rock, AR 72223.

The above-referenced meeting is open to the public.

The discussions at the meeting described above may address matters at issue in the following proceedings:

Docket No. ER13-366, Southwest Power Pool, Inc.

Docket No. ER13-367, Southwest Power Pool, Inc.

Docket No. ER13-1937, Southwest Power Pool, Inc.

Docket No. ER13-1939, Southwest Power Pool, Inc.

Docket No. ER14-2850, Southwest Power Pool, Inc.

Docket No. ER14-2851, Southwest Power Pool, Inc.

Docket No. ER15-492, Southwest Power Pool, Inc.

Docket No. ER15-509, Southwest Power Pool, Inc.

For more information, contact Jay Sher, Office of Energy Market Regulation, Federal Energy Regulatory Commission at (202) 502-8921 or jay.sher@ferc.gov.

Dated: December 4, 2014.
Kimberly D. Bose,
Secretary.

[FR Doc. 2014-29053 Filed 12-10-14; 8:45 am]

BILLING CODE 6717-01-P